DEPARTMENT OF TRANSPORTATION

Pipeline and Hazardous Materials Safety Administration

Notice of Application for Special Permits

AGENCY: Pipeline and Hazardous Materials Safety Administration (PHMSA), DOT.

ACTION: List of Applications for Special Permits.

SUMMARY: In accordance with the procedures governing the application for, and the processing of, special permits from the Department of Transportation's Hazardous Material Regulations (49 CFR part 107, subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before September 19, 2011.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington, DC or at http://regulations.gov.

This notice of receipt of applications for special permit is published in accordance with Part 107 of the Federal hazardous materials transportation law (49 U.S.C. 5117(b); 49 CFR 1.53(b)).

Issued in Washington, DC, on August 08, 2011.
Donald Burger,
Chief, General Approvals and Permits.

New Special Permits
Application No. | Docket No. | Applicant | Regulation(s) affected | Nature of special permits thereof
15388-N |  | Alpine Air Alaska, Inc., Girdwood, AK | 49 CFR 172.101 Column (9B), 172.204(c)(3), 173.27(b)(2), 175.30(a)(1), 172.200, 172.300 and 172.400 | To authorize the transportation in commerce of certain hazardous materials by cargo aircraft in remote areas of the U.S. without being subject to hazard communication requirements and quantity limitations where no other means of transportation is available. (mode 4)
15392-N |  | Brim Equipment Leasing, Inc. dba Brim Aviation, Ashland, OR | 49 CFR, 49 CFR Parts 106, 107, and 171-180 | To authorize the transportation in of certain hazardous materials by cargo aircraft including by external load in remote areas of the U.S. without being subject to hazard communication requirements and quantity limitations where no other means of transportation is available. (mode 4)
15393-N |  | Savannah Acid Plant LLC, Savannah, GA | 49 CFR 173.31(d)(1)(vi) | To authorize the transportation in commerce of sulfuric acid in tank cars that have not had both sides of the rupture disc inspected prior to shipment. (mode 2)
15404-N |  | Proserv UK Ltd., Aberdeen, AB12 3BT | 49 CFR 173.201, 173.302, 173.304, 178.35(e) and 178.36 | To authorize the manufacture, marking, sale and use of a non-DOT specification seamless titanium pressurized sample cylinder. (modes 1, 2, 3, 4)
15405-N |  | Giant Resource Recovery—Attalla, Inc., Attalla, AL | 49 CFR 173.306(h) and 173.156(b) | To authorize the one-time transportation in commerce of aerosols in alternative packaging for the purposes of testing. (mode 1)
15411-N |  | HyPerComp Engineering, Inc., Brigham City, UT | 49 CFR 173.302a and 180.205 | To authorize the manufacturing, mark, sale and use of Carbon and Glass fiber reinforced, Stainless Steel lined composite pressure vessels per DOT-CFFC specification. (modes 1, 2, 3, 4, 5)
15413-N |  | QSA Global, Inc., Burlington, MA | 49 CFR 173.301, 173.302a | To authorize the one-way transportation in commerce of non-DOT specification cylinders containing Helium from QSA Global in Burlington, MA to Linde Gas in Stewartsville, NJ for transfer of gas to DOT authorized cylinders. (mode 1)
15415-N |  | HyPerComp Engineering, Inc., Brigham City, UT | 49 CFR, 49 CFR Parts 106, 107, and 171-180 | To authorize the manufacture, mark, sale, and use of non-DOT specification fully wrapped carbon-fiber reinforced aluminum lined cylinders per DOT-CFFC for the U.S. Army as a survival egress air support cylinder. (modes 1, 2, 3, 4)
15425-N |  | National Aeronautics & Space Administration (NASA), Washington, DC | 49 CFR 177.848 | To authorize the transportation in commerce of certain hydrazine fuels on the same motor vehicle without regard to segregation requirements. (mode 1)
15427-N |  | The Proctor & Gamble Company, LeGrange, GA | 49 CFR 173.306(a)(3)(v) | To authorize the transportation in commerce of certain aerosols containing a Division 2.2 compressed gas in certain non-refillable aerosol containers which are not subject to the hot water bath test. (modes 1, 2, 3, 4, 5, 6)
15428-N |  | Space Exploration Technologies Corp | 49 CFR Part 172 and 173 | To authorize the transportation in commerce of certain hazardous material as part of the Dragon space capsule without requiring shipping papers, marking and labeling. (mode 1)

[FR Doc. 2011-20617 Filed 8-18-11; 8:45 am]

BILLING CODE 4909-60-P